DEPARTMENT OF TRANSPORTATION

Coast Guard

[USCG-2001-10062]

The National Ballast Water Management Program

AGENCY: Coast Guard, DOT.

ACTION: Notice of meetings; request for comments.

SUMMARY: As directed by the National Invasive Species Act of 1996 [NISA], the Coast Guard seeks consultation with all interested and affected parties before making recommendations to Congress on the future of the national Ballast Water Management program. To accomplish this, the Coast Guard will host four regional public meetings to expand the opportunity for public input into the national program. We seek comments from any interested or affected party and encourage all interested parties to attend the meetings.

DATES: The public meetings will be held on the following dates in the cities listed:

West Coast: Oakland, CA—August 28, 2001.

Gulf Coast: Houston, TX—September 6, 2001.

Great Lakes: Ann Arbor, MI—September 11, 2001.

East Coast: Washington, DC—September 18, 2001.

With the exception of the Houston meeting, which will begin at 9:00 a.m., all meetings will begin at 9:30 a.m. and will end when business has been completed. Other comments must reach the Docket Management Facility on or before September 30, 2001.

ADDRESSES: The Coast Guard will hold the meetings at the following locations:

Oakland, CA: Gresham Conference Center, Coast Guard Island, Alameda, CA 94501, 510-437-3573

Houston, TX: Hilton Houston Hobby Airport, 8181 Airport Blvd, Houston, TX 77061, 713-645-3000

Ann Arbor, MI: Holiday Inn, North Campus, 3600 Plymouth Rd, Ann Arbor, MI 48105, 734-769-9800

Washington, DC: Nassif Building, 400 7th Street SW, Rooms 8236—8240, Washington, DC 20590, 202-366-0135

You may submit your comments directly to the Docket Management Facility. To make sure that your comments and related material are not entered more than once in the docket [USCG-2001-10062], please submit them by only one of the following means:

(1) By mail to the Facility, U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Facility at 202-493-2251.

(4) Electronically through the Web Site for the Docket Management System at http://dms.dot.gov.

The Facility maintains the public docket for this notice. Comments, and documents as indicated in this notice, will become part of this docket and will be available for inspection or copying at room PL-401, on the Plaza level of the Nassif Building at the same address between 9 a.m. and 5 p.m., Monday through Friday, except Federal holidays. You may also access this docket on the Internet at http://dms.dot.gov.

FOR FURTHER INFORMATION CONTACT: For questions on this notice, call Lieutenant Junior Grade JoAnne Hanson, Project Manager, Environmental Standards Division, in the Office of Operating & Environmental Standards (G-MSO-4), Coast Guard, telephone 202-267-2079. For questions on viewing, or submitting material to the docket, call Dorothy Beard, Chief, Dockets, Department of Transportation, telephone 202-366-9329.

SUPPLEMENTARY INFORMATION:

Request for Comments

The Coast Guard encourages you to submit comments and related material on the national ballast water management program. If you do so, please include your name and address, identify the docket number [USCG-2001-10062] and give the reasons for each comment. You may submit your comments and material by mail, delivery, fax, or electronic means to the Docket Management Facility at the address under ADDRESSES; but please submit your comments and material by only one means. If you submit them by mail or delivery, submit them in an unbound format, no larger than 8\1/2\ by 11 inches, suitable for copying and electronic filing. If you submit them by mail and would like to know they reached the Facility, please enclose a stamped, self-addressed postcard or envelope. We will consider all comments and material received during the comment period.

Public Meetings

The Coast Guard encourages interested persons to attend the meetings and present oral comments during the meetings. The meetings are open to members of the public. Please note that the meetings may close early if all business is finished. If you would like to present an oral comment during a meeting, please notify Lieutenant Junior Grade Hanson at the address given under FOR FURTHER INFORMATION CONTACT no later than August 17, 2001. If you are unable to attend the meetings, we encourage you to submit comments to the Docket Management Facility as indicated under ADDRESSES, by September 30, 2001.

Information on Service for Individuals With Disabilities

For information on facilities or services for individuals with disabilities or to seek special assistance at the meeting, contact Lieutenant Junior Grade Hanson at the address or phone number under FOR FURTHER INFORMATION CONTACT as soon as possible.

Background and Purpose

The NISA mandated the Coast Guard to establish a national voluntary ballast water management (BWM) program, which became effective in July 1999. Additionally, the NISA requires the Coast Guard to: report to Congress no later than January 1, 2002, on the level of compliance with the guidelines; assess the effectiveness of the guidelines and standards issued under the national voluntary BWM program in reducing the introduction and spread of aquatic nuisance species by vessels; and begin revising the guidelines and standards as necessary.

The precursor to the NISA, the Nonindigenous Aquatic Nuisance Prevention and Control Act (NANPCA) [Pub. L. 101-646], was enacted by Congress on November 29, 1990, as a means of preventing and controlling the spread of zebra mussels and other aquatic nuisance species (ANS) in coastal and inland waters of the United States, with a particular emphasis on regulating ships entering the Great Lakes ecosystem.

The Coast Guard published a final rule titled “Ballast Water Management for Vessels Entering the Great Lakes” in the Federal Register on April 8, 1993 [58 FR 18330]. This rule established mandatory BWM procedures for the Great Lakes as detailed in 33 CFR part 151, subpart C. On December 30, 1994, the Coast Guard expanded the mandatory BWM practices to include portions of the Hudson River and amended the regulations in 33 CFR part 151 [59 FR 67632].

The NISA [Pub. L. 104-332] was enacted by Congress on October 26, 1996. This act reauthorized and amended the NANPCA, reemphasizing the significant role that ships' ballast water plays in the introduction and spread of ANS. The Coast Guard published the interim rule, “Implementation of the National Invasive Species Act of 1996,” on May 17, 1999 [64 FR 26672]. These regulations expanded BWM to all remaining U.S. waters as follows:

• Requiring operators of vessels entering U.S. waters from outside the Exclusive Economic Zone (EEZ) to submit a BWM report

• Providing recommended BWM practices for operators of vessels entering the waters of the U.S. from beyond the EEZ

• Promoting BWM for operators of all vessels in waters of the U.S.

While the NISA provides that inadequate reporting of BWM practices will lead to a mandatory BWM program, there are presently no federal penalties associated with failing to submit the required BWM reports. Data from the first year since the implementation of the reporting requirement indicates a nationwide compliance of approximately 25%, and preliminary reviews of subsequent months indicate little change. In the absence of federal requirements for BWM, several states have passed ANS legislation and implemented mandatory BWM programs, including mandatory ballast water reporting and associated penalties.

The data gathered through the ballast water reports is being compiled by the Coast Guard and the National Ballast Information Clearinghouse and, combined with comments from the public and the shipping industry, will form the basis of the recommendation by the Secretary of Transportation to Congress about the future of the BWM program. In order to better gather input from the public, the Coast Guard requests comments be submitted to the Docket Management Facility (see details under ADDRESSES) and invites interested parties to attend any of the four regional public meetings.

The absence of a quantitative ballast water treatment (BWT) standard is widely viewed as a major impediment to the development, testing and evaluation of BWT technologies that could supplement or replace mid-ocean exchange of ballast water. To address this, the Coast Guard recently published two notices in the Federal Register. “Potential Approaches to Setting Ballast Water Treatment Standards” requesting comments on approaches to setting, implementing, and enforcing ballast water standards, was published on May 1, 2001 [66 FR 21807]. The second notice, “Approval for Experimental Shipboard Installations of Ballast Water Treatment Systems” was published on May 22, 2001 [66 FR 28213] and requests comments on a possible means of providing incentives to further the development and testing of BWT technologies.

Sample Topics for Consideration

In order to focus the discussion about the future of the national BWM program, please consider the following when submitting comments: (NOTE—some of these questions contain redundancies and they are not posed in a sequential fashion.)

1. Should BWM (including mid-ocean exchange of ballast water) be mandatory?

2. Should an exemption be allowed for those situations where a ship's master believes that performing BWM, including exchange, would endanger his vessel, crew and/or passengers? If so, how should the validity of such exemptions be verified?

3. Should there be an exemption from ballast water exchange requirements for those voyages whose routes take them outside the U.S. EEZ but not into waters of at least 2000 meters in depth and 200 miles from land (the prescribed depth of water and distance from land for conducting a mid-ocean exchange)?

4. Should the depth of water required for mid-ocean exchange be reduced to 500 meters, as is contained in the International Maritime Organization's definition of mid-ocean exchange?

5. Should ballast water exchange be permitted in waters less than 200 miles from shore? If so, what parameters should be considered?

6. Should the Coast Guard wait for the development of a BWT standard (a means of measuring the effectiveness of and comparing various ballast water treatments) before implementing mandatory BWM regulations?

7. Should ship type (e. g. passenger, container, bulk) influence regulatory requirements on BWM, and if so, how?

8. If BWM becomes mandatory, should ships constructed before the establishment of a mandatory program be treated differently than those constructed after the program goes into effect? If so, what should the distinctions be?

9. If a mandatory BWM program is developed, should the mandatory reporting requirement still be in effect? If so, what is the most efficient means of obtaining BWM data from vessels? Should BWM information be part of the advance notice of arrivals currently required of vessels arriving in U.S. ports and submitted to the appropriate Coast Guard Captain of the Port, even if this meant providing significantly more information in the advance notice of arrival than is currently required? Or should separate reports continue to be sent to the National Ballast Water Information Clearinghouse, which acts as the Coast Guard's agent for the collection, storage and further processing of these reports?

10. Should ballast water management requirements (including reporting and treatment) be extended to cover coast-wise shipping that operates well within the EEZ? What kinds of BWM should coastwise shipping be required to practice?

11. Should there be an exemption from ballast water exchange requirements for those voyages where the vessel is only outside the U.S. EEZ for a minimal length of time? What length of time should be considered minimal?

Dated: July 5, 2001.
Joseph J. Angelo,
Director of Standards, Marine Safety and Environmental Protection.

[FR Doc. 01-17404 Filed 7-10-01; 8:45 am]

BILLING CODE 4910-15-u